DEPARTMENT OF COMMERCE

National Oceanic and Atmospheric Administration

50 CFR Part 622

[Docket No. 120815345-3525-02]

RIN 0648-XD388

Snapper-Grouper Fishery of the South Atlantic; 2014 Commercial Accountability Measure and Closure for the South Atlantic Porgy Complex

AGENCY: National Marine Fisheries Service (NMFS), National Oceanic and Atmospheric Administration (NOAA), Commerce.

ACTION: Temporary rule; closure.

SUMMARY: NMFS implements accountability measures (AMs) for the commercial porgy complex in the U.S. exclusive economic zone (EEZ) of the South Atlantic. In the South Atlantic, the porgy complex includes jolthead porgy, knobbed porgy, whitebone porgy, scup, and saucereye porgy. Commercial landings for the porgy complex, as estimated by the Science and Research Director (SRD), are projected to reach the commercial annual catch limit (ACL) on December 6, 2014. Therefore, NMFS closes the commercial sector for the porgy complex in the South Atlantic EEZ on December 9, 2014, and it will remain closed until the start of the next fishing year, January 1, 2015. This closure is necessary to protect the porgy complex resource.

DATES: This rule is effective 12:01 a.m., local time, December 9, 2014, until 12:01 a.m., local time, January 1, 2015.

FOR FURTHER INFORMATION CONTACT: Catherine Hayslip, telephone: 727-824-5305, or email: catherine.hayslip@noaa.gov.

SUPPLEMENTARY INFORMATION: The snapper-grouper fishery of the South Atlantic, which includes the porgy complex (jolthead porgy, knobbed porgy, whitebone porgy, scup, and saucereye porgy), is managed under the Fishery Management Plan for Snapper-Grouper Fishery of the South Atlantic Region (Snapper-Grouper FMP). The Snapper-Grouper FMP was prepared by the South Atlantic Fishery Management Council and is implemented under the authority of the Magnuson-Stevens Fishery Conservation and Management Act (Magnuson-Stevens Act) by regulations at 50 CFR part 622.

The AM at 50 CFR 622.193(w)(1)(i) requires the Assistant Administrator for Fisheries, NOAA (AA), to file a notification with the Office of the Federal Register to close the commercial sector for the porgy complex for the remainder of the fishing year when the commercial ACL is reached or is projected to be reached. The commercial ACL for the porgy complex is 36,348 lb (16,487 kg), round weight. Based on the best scientific information available, NMFS has determined that the commercial ACL will be reached on December 6, 2014. Accordingly, this temporary rule implements an AM to close the commercial sector for the porgy complex in the South Atlantic EEZ at 12:01 a.m., local time, on December 9, 2014.

During the closure, all sale or purchase, and harvest or possession of jolthead porgy, knobbed porgy, whitebone porgy, scup, and saucereye in or from the South Atlantic EEZ is prohibited. The recreational bag and possession limits for the snapper-grouper fishery, as specified at 50 CFR 622.187(b) and (c), do not apply because NMFS closed the recreational sector on September 17, 2014 (79 FR 55658). The recreational bag and possession limits are zero.

Classification

The Regional Administrator, Southeast Region, NMFS, has determined this temporary rule is necessary for the conservation and management of the porgy complex, a component of the South Atlantic snapper-grouper fishery, and is consistent with the Magnuson-Stevens Act and other applicable laws.

This action is taken under 50 CFR 622.193(w)(1)(i) and is exempt from review under Executive Order 12866.

These measures are exempt from the procedures of the Regulatory Flexibility Act because the temporary rule is issued without opportunity for prior notice and comment.

This action responds to the best scientific information available. The AA finds good cause to waive the requirements to provide prior notice and opportunity for public comment, pursuant to the authority set forth at 5 U.S.C. 553(b)(B), as such prior notice and opportunity for public comment is unnecessary and contrary to the public interest. Such procedures are unnecessary and contrary to the public interest because the AM established by the Comprehensive ACL Amendment and located at 50 CFR 622.193(w)(1)(i) has already been subject to notice and comment, and all that remains is to notify the public of the commercial closure for the porgy complex for the remainder of the 2014 fishing year. Additionally, there is a need to immediately implement the closure for the porgy complex to prevent further commercial harvest and prevent the ACL from being exceeded, which will protect the snapper-grouper resource in the South Atlantic. Prior notice and opportunity for public comment on this action would be contrary to the public interest because many of those affected by the closure need as much time as possible to adjust business plans to account for the reduced commercial fishing season.

For the aforementioned reasons, the AA also finds good cause to waive the 30-day delay in the effectiveness of this action under 5 U.S.C. 553(d)(3).

Authority: 16 U.S.C. 1801 et seq.

Dated: December 3, 2014.
Alan D. Risenhoover,
Director, Office of Sustainable Fisheries, National Marine Fisheries Service.

[FR Doc. 2014-28745 Filed 12-4-14; 4:15 pm]

BILLING CODE 3510-22-P